NUCLEAR REGULATORY COMMISSION

[NRC-2020-0018]

Standard Review Plan for Applications for 10 CFR Part 70 Licenses for Possession and Use of Special Nuclear Materials of Critical Mass but Not Subject to the Requirements in 10 CFR part 70, Subpart H

AGENCY: Nuclear Regulatory Commission.

ACTION: Draft NUREG; request for comment.

SUMMARY: The U.S. Nuclear Regulatory Commission (NRC) is issuing for public comment a draft NUREG, NUREG-2212, “Standard Review Plan for Applications for 10 CFR part 70 Licenses for Possession and Use of Special Nuclear Materials of Critical Mass but not Subject to the Requirements in 10 CFR part 70, subpart H.” This NUREG contains information intended to provide staff guidance to assist applicants and licensees in preparing license applications for possession and use of special nuclear materials (SNM) exceeding specific threshold quantities. It describes methods or approaches acceptable to the NRC staff for implementing NRC requirements in the Code of Federal Regulations.

DATES: Submit comments by February 6, 2023. Comments received after this date will be considered if it is practical to do so, but the NRC is able to ensure consideration only for comments received on or before this date.

ADDRESSES: You may submit comments by any of the following methods; however, the NRC encourages electronic comment submission through the Federal rulemaking website:

• Federal Rulemaking Website: Go to https://www.regulations.gov and search for Docket ID NRC-2020-0018. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Osiris Siurano-Perez, Office of Nuclear Material Safety and Safeguards, U.S. Nuclear Regulatory Commission, Washington, DC 20555-0001, telephone: 301-415-7827, email: Osiris.Siurano-Perez@nrc.gov.

SUPPLEMENTARY INFORMATION:

I. Obtaining Information and Submitting Comments

A. Obtaining Information

Please refer to Docket ID NRC-2020-0018 when contacting the NRC about the availability of information for this action. You may obtain publicly available information related to this action by any of the following methods:

• Federal Rulemaking Website: Go to https://www.regulations.gov and search for Docket ID NRC-2020-0018.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. Draft NUREG-2212, “Guidance for Applications for Title 10 of the Code of Federal Regulations Part 70 Licenses for Possession and Use of Special Nuclear Materials of Critical Mass but not Subject to the Part 70 Subpart H Requirements,” and its associated Regulatory Analysis, are available in ADAMS under Accession Nos. ML22335A087 and ML20233A221, respectively.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

B. Submitting Comments

The NRC encourages electronic comment submission through the Federal rulemaking website (https://www.regulations.gov). Please include Docket ID NRC-2020-0018 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

The information in this draft report, NUREG-2212, “Standard Review Plan for Applications for 10 CFR part 70 Licenses for Possession and Use of Special Nuclear Materials of Critical Mass but not Subject to the Requirements in 10 CFR part 70, subpart H,” is intended to provide staff guidance to assist applicants and licensees in preparing applications for licenses for critical mass quantities of SNM exceeding specific threshold quantities. In particular, it describes the types of information required under section 70.22 of title 10 of the Code of Federal Regulations (10 CFR), “Contents of applications,” for an application for a new, renewal of, and/or amendment to an SNM license, for facilities licensed under 10 CFR part 70, “Domestic Licensing of Special Nuclear Material,” but that are not subject to the 10 CFR part 70, subpart H, “Additional Requirements for Certain Licensees Authorized To Possess a Critical Mass of Special Nuclear Material” (commonly known as greater than critical mass (GTCM) applicants, licensees, and/or facilities). The NUREG provides NRC staff reviewers with guidance that describes methods or approaches that the staff has found acceptable for meeting applicable NRC requirements in 10 CFR part 70. Implementation of the criteria and guidelines in NUREG-2212 by staff members in their review of applications provides assurance that a given design ensures adequate protection of the public health and safety and the environment. This draft NUREG follows the format and style of NUREG-1556, Volume 17, Revision 1 “Consolidated Guidance about Materials Licenses: Program-Specific Guidance About Special Nuclear Material of Less than Critical Mass Licenses,” (ADAMS Accession No. ML18190A207), however, additional detailed information on the safety programs applicable to part 70 GTCM facilities is included. Draft NUREG-2212 also follows the format and style of NUREG-1520, Revision 2 “Standard Review Plan for Fuel Cycle Facilities License Applications,” (ADAMS Accession No. ML15176A258), which focuses on those activities unique to facilities that are subject to part 70, subpart H requirements.

Dated: December 2, 2022.
For the Nuclear Regulatory Commission.
Shana R. Helton,
Director, Division of Fuel Management, Office of Nuclear Material Safety and Safeguards.

[FR Doc. 2022-26667 Filed 12-7-22; 8:45 am]

BILLING CODE 7590-01-P